DEPARTMENT OF COMMERCE

International Trade Administration

[A-570-835]

Glycine From the People's Republic of China: Extension of Preliminary Results of Antidumping Duty Administrative Review

AGENCY: Import Administration, International Trade Administration, Department of Commerce.

ACTION: Notice of extension of time limit for preliminary results of antidumping duty administrative review.

SUMMARY: The Department of Commerce (“the Department”) is extending the time limit for the preliminary results of the review of glycine from the People's Republic of China. This review covers the period March 1, 2003, through February 29, 2004.

EFFECTIVE DATE: November 2, 2004.

FOR FURTHER INFORMATION CONTACT: Hallie Noel Zink, AD/CVD Operations, Office 9, Import Administration, International Trade Administration, U.S. Department of Commerce, 14th Street and Constitution Avenue, N.W., Washington, D.C. 20230; telephone (202) 482-6907.

Time Limits

Statutory Time Limits

Section 751(a)(3)(A) of the Tariff Act of 1930, as amended (“the Act”), requires the Department to make a preliminary determination within 245 days after the last day of the anniversary month of an order for which a review is requested and a final determination within 120 days after the date on which the preliminary determination is published. However, if it is not practicable to complete the review within these time periods, Section 751(a)(3)(A) of the Act allows the Department to extend the time limit for the preliminary determination to a maximum of 365 days after the last day of the anniversary month.

Background

On April 28, 2004, the Department published a notice of initiation of the administrative review of the antidumping duty order on glycine from the People's Republic of China. See Notice of Initiation of Antidumping and Countervailing Duty Administrative Reviews, 69 FR 23170 (April 28, 2004). The preliminary results of this administrative review are currently due no later than December 1, 2004.

Extension of Time Limit for Preliminary Results of Review

We determine that it is not practicable to complete the preliminary results of this review within the original time limit because the Department needs to gather more information in order to further analyze the Respondent's production process, as well as to evaluate what would be the most appropriate surrogate values to use during the period of review. Therefore, the Department is extending the time limit for completion of the preliminary results, 120 days, i.e., until no later than March 31, 2005. This extension is in accordance with section 751(a)(3)(A) of the Act.

Dated: October 27, 2004.
Jeffrey May,
Deputy Assistant Secretary for Import Administration.

[FR Doc. E4-2980 Filed 11-1-04; 8:45 am]

BILLING CODE 3510-DS-S